DEPARTMENT OF VETERANS AFFAIRS

Genomic Medicine Program Advisory Committee; Notice of Renewal

The Department of Veterans Affairs (VA) gives notice that the Genomic Medicine Program Advisory Committee has been renewed for a two year period.

The Committee provides advice to the Secretary of Veterans Affairs on the scientific and ethical issues related to the development and operation of VA's genomic medicine program. The Committee is guided by the goal of using genetic information to optimize clinical care of veterans and to enhance the study and development of diagnostic tests and treatments for diseases of particular relevance to veterans.

Dated: February 22, 2008.
By Direction of the Secretary.
E. Philip Riggin,
Committee Management Officer.

[FR Doc. 08-910 Filed 2-29-08; 8:45 am]

BILLING CODE 8320-01-M